DEPARTMENT OF THE TREASURY

Community Development Financial Institutions Fund

Native American CDFI Assistance (NACA) Program

Funding Opportunity Title: Notice of Funds Availability (NOFA) inviting applications for the FY 2011 Funding Round of the Native American CDFI Assistance (NACA) Program.

Announcement Type: Announcement of funding opportunity.

Catalog of Federal Domestic Assistance (CFDA) Number: 21.020.

DATES: Applications for Financial Assistance (FA) and/or Technical Assistance (TA) awards through the FY 2011 Funding Round of the NACA Program must be received by 11:59 p.m., Eastern Time (ET), December 22, 2010.

Executive Summary: Subject to funding availability, this NOFA is issued in connection with the FY 2011 Funding Round. The NACA Program is administered by the Community Development Financial Institutions (CDFI) Fund.

I. Funding Opportunity Description

A. Through the NACA Program, the CDFI Fund provides: (i) FA awards to CDFIs that direct at least 50 percent of their activities toward serving Native American, Alaska Native, and/or Native Hawaiians (Native CDFIs). Native CDFIs must have Comprehensive Business Plans for creating demonstrable community development impact through the deployment of credit, capital, and financial services within their respective Target Markets or for the expansion into new Investment Areas, Low-Income Targeted Populations, or Other Targeted Populations; and (ii) TA grants to Native CDFIs, entities proposing to become Native CDFIs, and to Native organizations, Tribes, and Tribal organizations (Sponsoring Entities) that propose to create Native CDFIs, in order to build their capacity to meet the community development and capital access needs of their existing or proposed Target Markets and/or to become certified Native CDFIs.

B. The regulations governing the CDFI Program are found at 12 CFR part 1805 (the Regulations) and provide guidance on evaluation criteria and other requirements of the NACA Program. The CDFI Fund encourages Applicants to review the Regulations. Detailed application content requirements are found in the applicable funding application and related guidance materials. Each capitalized term in this NOFA is more fully defined in the Regulations, the application, or the guidance materials.

C. The CDFI Fund reserves the right to fund, in whole or in part, any, all, or none of the applications submitted in response to this NOFA. The CDFI Fund reserves the right to re-allocate funds from the amount that is anticipated to be available under this NOFA to other CDFI Fund programs, particularly if the CDFI Fund determines that the number of awards made under this NOFA is fewer than projected.

II. Award Information

A. Funding Availability: Through this NOFA, and subject to funding availability, the CDFI Fund expects that it may award approximately $12 million in appropriated funds in the FY 2011 Funding Round. The CDFI Fund reserves the right to award in excess of $12 million in appropriated funds to Applicants in the FY 2011 Funding Round, provided that the funds are available and the CDFI Fund deems it appropriate.

B. Availability of Funds for the FY 2011 Funding Round: Funds for the FY 2011 Funding Round have not yet been appropriated. If funds are not appropriated for the FY 2011 Funding Round, there will not be a FY 2011 Funding Round. Further, it is possible that if funds are appropriated for the FY 2011 Funding Round, the amount of such funds may be greater than or less than the amounts set forth above. Further, if funds for the FY 2011 Funding Round are not appropriated, entities that are eligible to apply for CDFI Program funds and that might otherwise have applied for NACA Program funds are encouraged to apply for funds through the FY 2011 Funding Round of the CDFI Program.

C. Types of Awards: An Applicant may submit an application either for: (i) A FA award; (ii) a FA award and a TA grant; or (iii) a TA-only grant.

1. FA Awards: FA is intended to provide flexible financial support to CDFIs so that they may achieve the strategies outlined in their Comprehensive Business Plans. FA awards can be used in the following five categories: (i) Financial Products; (ii) Financial Services; (iii) Development Services; (iv) Loan Loss Reserves, (v) Capital Reserves, or other activities/uses that support the activities in the Applicant's Comprehensive Business Plan; and/or (vi) Operations. For purposes of this NOFA, Financial Products means loans, grants, equity investments, and similar financing activities, including the purchase of loans originated by certified CDFIs and the provision of loan guarantees, in the Applicant's Target Market, or for related purposes that the CDFI Fund deems appropriate (including administrative funds used to carry out Financial Products). Financial Services means checking and savings accounts, certified checks, automated teller machine services, deposit taking, remittances, safe deposit box services, and other similar services (including administrative funds used to carry out Financial Services). Development Services means activities that promote community development and are integral to the Applicant's provisions of Financial Products and Financial Services (including administrative funds used to carry out Development Services) including, for example, financial or credit counseling, housing and homeownership counseling (pre- and post-), self-employment technical assistance, entrepreneurship training, and financial management skill-building. Loan Loss Reserves means funds that the Applicant will set aside in the form of cash reserves, or through accounting-based accrual reserves, to cover losses on loans, accounts, and notes receivable made in its Target Market, or for related purposes that the CDFI Fund deems appropriate (including administrative funds used to carry out Loan Loss Reserves). Capital Reserves means funds that the Applicant will set aside in the form of reserves to support the Applicant's ability to leverage other capital, for such purposes as increasing its net assets or serving the financing needs of its Target Market, or for related purposes that the CDFI Fund deems appropriate (including administrative funds used to carry out Capital Reserves). Operations means funds that the Applicant will use to carry out its Comprehensive Business Plan, and/or for related purposes that the CDFI Fund deems appropriate, that are not used to carry out or administer any of the foregoing eligible FA uses. FA awards are most commonly used for an Applicant's Financial Products since FA funds can be used to support the Applicant's community development lending activities.

The CDFI Fund may provide FA awards in the form of equity investments (including, in the case of certain Insured Credit Unions, secondary capital accounts), grants, loans, deposits, credit union shares, or any combination thereof. The CDFI Fund reserves the right, in its sole discretion, to provide a FA award in a form and amount other than that which the Applicant requests; however, the award amount will not exceed the Applicant's award request as stated in its application. The CDFI Fund reserves the right, in its sole discretion, to provide a FA award to an Applicant on the condition that the Applicant agrees to use a TA grant for specified capacity-building purposes, even if the Applicant has not requested a TA grant. FA awards must be used to support the Applicant's activities; FA awards cannot be used to support the activities of, or otherwise be “passed through” to, third-party entities, whether Affiliates, Subsidiaries, or others, without the prior written permission of the CDFI Fund.

2. TA Grants: (a) The CDFI Fund provides TA awards in the form of grants. The CDFI Fund reserves the right, in its sole discretion, to provide a TA grant for uses and amounts other than that which the Applicant requests; however, the award amount will not exceed the Applicant's award request as stated in its application and the applicable budget chart.

(b) TA grants may be used to address a variety of needs including, but not limited to, development of strategic planning documents (such as strategic or capitalization plans), market analyses or product feasibility analyses, operational policies and procedures, curricula for Development Services (such as entrepreneurial training, home buyer education, financial education or training, or borrower credit repair training), improvement of underwriting and portfolio management, development of outreach and training strategies to enhance product delivery, operating support to expand into a new eligible market, and tools that allow the Applicant to assess the impact of its activities in its community.

(c) Eligible TA grant uses include, but are not limited to: (i) Procuring professional services; (ii) acquiring/enhancing technology items, including computer hardware, software, and Internet connectivity and related management information systems; (iii) acquiring training for staff, management, and/or board members; and (iv) paying recurring expenses, including staff salary and other key operating expenses, that will enhance the capacity of the Applicant to serve its Target Market and/or to become certified as a Native CDFI or to create a Native CDFI. Applicants should see the NACA application for additional details of each eligible use of TA.

D. Assistance Agreement: Each Awardee under this NOFA must execute an Assistance Agreement in order to receive a disbursement of award proceeds by the CDFI Fund. The Assistance Agreement contains the terms and conditions of the award. For further information, see Section VI.A of this NOFA.

III. Eligibility Information

A. Eligible Applicants: The Regulations specify the eligibility requirements that each Applicant must meet in order to be eligible to apply for assistance under this NOFA. The following sets forth additional detail and dates that relate to the submission of applications under this NOFA:

1. Applicant Categories: All Applicants for FA, FA/TA and TA-only awards through this NOFA must meet the criteria in Table 1—NACA Applicant Criteria.

Table 1—NACA Applicant Criteria
Applicant type | Criteria of applicant | Maximum award
FA, FA/TA | A Certified/Certifiable Native CDFI that meets all other eligibility requirements described in this NOFA | Up to and including $750,000 in FA funds, and up to and including $150,000 if TA funds are being requested.
TA-only | A Certified Native CDFI, a Certifiable Native CDFI, an Emerging Native CDFI, or a Sponsoring Entity | Up to $150,000 for capacity-building activities.

2. Native CDFI Certification Requirements: For purposes of this NOFA, eligible FA Applicants include Certified Native CDFIs and Certifiable Native CDFIs; eligible TA Applicants include Certified Native CDFIs, Certifiable Native CDFIs, Emerging Native CDFIs, and Sponsoring Entities, defined as follows:

(a) Certified Native CDFIs: For purposes of this NOFA, a Certified Native CDFI is an entity that has received official notification from the CDFI Fund that it meets all CDFI certification requirements as of the date of publication of this NOFA, the certification of which has not expired and that has not been notified by the CDFI Fund that its certification has been terminated. In cases where the CDFI Fund provided Native CDFIs with written notification that their certifications had been extended, the CDFI Fund will consider the extended certification date (the later date) to determine whether those Native CDFIs meet this eligibility requirement. When applicable, each such Applicant must submit a Certification of Material Events form to the CDFI Fund not later than the deadline indicated in Section IV. F. Application Deadlines. The Certification of Material Events form can be found on the CDFI Fund's Web site at http://www.CDFIfund.gov.

(b) Certifiable Native CDFIs: For purposes of this NOFA, a Certifiable Native CDFI is an entity from which the CDFI Fund has received a complete CDFI Certification application no later than the deadline indicated in Section IV. F—Application Deadlines, evidencing that the Applicant meets the requirements to be certified as a Native CDFI. The CDFI Certification application can be found on the CDFI Fund's Web site at http://www.CDFIfund.gov. If the CDFI Fund is unable to certify the organization as a Native CDFI based on the CDFI certification application submitted to the CDFI Fund, it is in the sole discretion of the CDFI Fund to terminate the award commitment. While a Certifiable Native CDFI may be conditionally selected for a FA award, the CDFI Fund will not enter into an Assistance Agreement or disburse award funds unless and until the CDFI Fund has officially certified the organization as a Native CDFI.

(c) Emerging Native CDFIs: For purposes of this NOFA, an Emerging Native CDFI is an entity that demonstrates to the CDFI Fund's satisfaction that it has a reasonable plan to be a certified Native CDFI within two calendar years after both entities enter into an Assistance Agreement or such other date selected by the CDFI Fund. Emerging Native CDFIs may apply for TA grants only and are not eligible to apply for FA awards. Each Emerging Native CDFI selected to receive a TA grant will be required, pursuant to its Assistance Agreement with the CDFI Fund, to become certified as a Native CDFI by a certain date.

(d) Sponsoring Entities: For the purposes of this NOFA, a Sponsoring Entity is an entity that proposes to create a separate legal entity that will become a certified Native CDFI. Sponsoring Entities include: (a) A Tribe, Tribal entity, Alaska Native Village, Village Corporation, Regional Corporation, Non-Profit Regional Corporation/Association, or Inter-Tribal or Inter-Village organization; or (b) an organization whose primary mission is to serve a Native Community including, but not limited to, an Urban Indian Center, Tribally Controlled Community College, community development corporation (CDC), training or education organization, or Chamber of Commerce, and that primarily serves a Native Community (meaning, at least 50 percent of its activities are directed toward the Native Community). Sponsoring Entities may only apply for TA grants; they are not eligible to apply for FA awards. Each Sponsoring Entity that is selected to receive a TA grant will be required, pursuant to its Assistance Agreement with the CDFI Fund, to create a legal entity by a certain date that will, in turn, seek Native CDFI certification and to transfer remaining award funds to that Native CDFI upon certification.

3. Limitation on Awards: An Applicant may receive only one FA award through the FY 2011 Funding Round of the CDFI Program or the NACA Program. A NACA Program Applicant, its Subsidiaries, or Affiliates also may apply for and receive a Bank Enterprise Award (BEA) Program award, provided however that the activities approved for BEA Program awards were not funded by the proceeds of a NACA Program award. A NACA Program Applicant, its Subsidiaries, or Affiliates also may apply for and receive a tax credit allocation through the New Markets Tax Credit (NMTC) Program, but only to the extent that the activities approved for NACA Program awards are different from those activities for which the Applicant receives a NMTC Program allocation.

B. Prior Awardees: Applicants must be aware that success in a prior round of any of the CDFI Fund's programs is not indicative of success under this NOFA. For purposes of this section, the CDFI Fund will consider an Affiliate to be any entity that meets the definition of Affiliate in the Regulations or an entity otherwise identified as an Affiliate by the Applicant in its funding application under this NOFA. Prior Awardees should note the following:

1. $5 million Funding Cap: Congress waived the $5 million funding cap for the FY 2009 and FY 2010 Funding Rounds, and it is possible that the $5 million funding cap may be waived for the FY 2011 Funding Round as well. As of the publication date of this NOFA, however, such a waiver has not been enacted into law. Accordingly, the CDFI Fund is currently prohibited from obligating more than $5 million in assistance, in the aggregate, to any one organization and its Subsidiaries and Affiliates during any three-year period. In general, the three-year period extends back three years from the date that the CDFI Fund signs an award agreement; for purposes of this NOFA, and for ease of administration, the CDFI Fund will consider any assistance documented with a Notice of Award or Assistance Agreement dated between July 1, 2008 and July 1, 2011 (which is the anticipated date that the CDFI Fund will issue assistance agreements for the FY 2011 Funding Round). However, in light of the possibility of a waiver of the $5 million funding cap, an Applicant who is otherwise eligible under this NOFA, and is requesting an award amount that would cause the Applicant to exceed the $5 million funding cap, should submit an Application under this NOFA. The CDFI Fund will assess applicability of the $5 million funding cap during the award selection phase based upon whether the Congressional waiver has been enacted at that time.

2. Failure to Meet Reporting Requirements: The CDFI Fund will not consider an application submitted by an Applicant if the Applicant, or an Affiliate of the Applicant, is a prior Awardee or Allocatee under any CDFI Fund program and is not current on the reporting requirements set forth in a previously executed assistance, allocation, or award agreement(s), as of the applicable application deadline of this NOFA. Please note that the CDFI Fund only acknowledges the receipt of reports that are complete. As such, incomplete reports or reports that are deficient of required elements will not be recognized as having been received.

3. Pending Resolution of Noncompliance: If an Applicant is a prior Awardee or Allocatee under any CDFI Fund program and if (i) it has submitted complete and timely reports to the CDFI Fund that demonstrate noncompliance with a previous assistance, allocation, or award agreement, and (ii) the CDFI Fund has yet to make a final determination as to whether the entity is in default of its previous assistance, allocation, or award agreement, the CDFI Fund will consider the Applicant's application under this NOFA pending full resolution, in the sole determination of the CDFI Fund, of the noncompliance. Further, if an Affiliate of the Applicant is a prior CDFI Fund Awardee or Allocatee and if such entity (i) has submitted complete and timely reports to the CDFI Fund that demonstrate noncompliance with a previous assistance, allocation, or award agreement and (ii) the CDFI Fund has yet to make a final determination as to whether the entity is in default of its previous assistance, allocation, or award agreement, the CDFI Fund will consider the Applicant's application under this NOFA pending full resolution, in the sole determination of the CDFI Fund, of the noncompliance.

4. Default Status: The CDFI Fund will not consider an application submitted by an Applicant that is a prior Awardee or Allocatee under any CDFI Fund program if, as of the applicable application deadline of this NOFA, the CDFI Fund has made a final determination that such Applicant is in default of a previously executed assistance, allocation, or award agreement(s). Further, an entity is not eligible to apply for an award pursuant to this NOFA if, as of the applicable application deadline of this NOFA, the CDFI Fund has made a final determination that an Affiliate of the Applicant is a prior Awardee or Allocatee under any CDFI Fund program and has been determined by the CDFI Fund to be in default of a previously executed assistance, allocation, or award agreement(s). Such entities will be ineligible to apply for an award pursuant to this NOFA so long as the Applicant's, or its Affiliate's, prior award or allocation remains in default status or such other time period as specified by the CDFI Fund in writing.

5. Termination in Default: The CDFI Fund will not consider an application submitted by an Applicant that is a prior Awardee or Allocatee under any CDFI Fund program if (i) within the 12-month period prior to the applicable application deadline of this NOFA, the CDFI Fund has made a final determination that such Applicant`s prior award or allocation terminated in default of a previously executed assistance, allocation, or award agreement(s), and (ii) the final reporting period end date for the applicable terminated assistance, allocation, or award agreement(s) falls within the 12-month period prior to the application deadline of this NOFA. Further, an entity is not eligible to apply for an award pursuant to this NOFA if (i) within the 12-month period prior to the applicable application deadline, the CDFI Fund has made a final determination that an Affiliate of the Applicant is a prior Awardee or Allocatee under any CDFI Fund program whose award or allocation terminated in default of a previously executed assistance, allocation, or award agreement(s), and (ii) the final reporting period end date for the applicable terminated assistance, allocation, or award agreement(s) falls within the 12-month period prior to the application deadline of this NOFA.

6. Undisbursed Award Funds: The CDFI Fund will not consider an Applicant's application if the Applicant or an Affiliate of the Applicant is a prior Awardee under any CDFI Fund program and has undisbursed award funds (as defined below) as of this NOFA's application deadline. The Fund will include the combined undisbursed prior awards, as of this NOFAs application deadline, of the Applicant and affiliated entities, including those in which the affiliated entity Controls the Applicant, is Controlled by the Applicant, or shares common management officials with the Applicant as determined by the Fund.

Undisbursed BEA Program award funds will be included in the calculation of undisbursed awards for the Applicant (and any Affiliates) from three to five calendar years prior to the end of the calendar year of this NOFA's application deadline. Thus, for purposes of this NOFA, undisbursed awards made in FYs 2005, 2006, and 2007 will be included in the calculation for the Applicant's undisbursed award amounts if the funds have not been disbursed as of this NOFA's application deadline.

Undisbursed funds for the CDFI and NACA Programs will be calculated by adding all undisbursed award amounts made to the Applicant (and any Affiliates) two to five calendar years prior to the end of the calendar year of this NOFA. Therefore, undisbursed CDFI Program and NACA awards made in FYs 2005, 2006, 2007, and 2008 will be included in the undisbursed calculation as of this NOFA's application deadline.

Undisbursed awards can not exceed five percent of the total includable awards for the Applicant's BEA/CDFI/NACA awards, as of this NOFA's application deadline. (The total “includable” award amount is the total award amount from the relevant Fund program.) Please refer to an example of this calculation on the Fund's Web site, found in the Q&A document for the FY 2011 Funding Round.

The “undisbursed award funds” calculation does not include: (i) Tax credit allocation authority made available through the NMTC Program; (ii) award funds the Awardee has requested from the Fund by submitting a full and complete disbursement request before this NOFA's application deadline; (iii) award funds for an award that the Fund has terminated or de-obligated; or (iv) award funds for an award that does not have a fully executed assistance or award agreement. The Fund encourages Applicants to request their undisbursed funds from the Fund at least 10 business days prior to this NOFA's application deadline.

7. Contact the CDFI Fund: Applicants that are prior CDFI Fund Awardees are advised to: (i) Comply with requirements specified in assistance, allocation, and/or award agreement(s), and (ii) contact the CDFI Fund to ensure that all necessary actions are underway for the disbursement or deobligation of any outstanding balance of said prior award(s). An Applicant that is unsure about the disbursement status of any prior award should contact the CDFI Fund via e-mail at CDFI.disburseinquiries@cdfi.treas.gov.

C. Matching Funds: Congress waived the matching funds requirements for the FY 2009 and the FY 2010 Funding Rounds, and it is possible that the matching funds requirements may be waived for the FY 2011 Funding Round as well. As of the publication date of this NOFA, however, such a waiver has not been enacted into law. Accordingly, the CDFI Fund encourages Applicants to include matching funds documentation as instructed in the application; if the matching funds waiver is enacted, the CDFI Fund will not consider matching funds documentation. An Applicant that does not include matching funds documentation in its application runs the risk of being determined to be ineligible for funding under the FY 2011 Funding Round if said matching funds waiver is not enacted. In light of the possibility of a waiver of the matching funds requirements, an Applicant who would not satisfy the matching funds requirements but is otherwise eligible under this NOFA should submit an application under this NOFA. The CDFI Fund will assess applicability of the matching funds requirements during the award selection phase based upon whether the Congressional waiver has been enacted at that time.

Accordingly, subject to the immediately preceding paragraph:

1. Applicants responding to this NOFA must obtain non-Federal matching funds from sources other than the Federal government on the basis of not less than one dollar for each dollar of FA funds provided by the CDFI Fund (matching funds are not required for TA grants). Matching funds must be at least comparable in form and value to the FA provided by the CDFI Fund. For example, if an Applicant is requesting a FA award from the CDFI Fund, the Applicant must show that it has obtained matching funds through commitment(s) from non-Federal sources that are at least equal to the amount requested from the CDFI Fund. Applicants cannot use matching funds from a prior FA award under the NACA or CDFI Program or under another Federal grant or award program to satisfy the matching funds requirement of this NOFA. If an Applicant seeks to use as matching funds monies received from an organization that was a prior Awardee under the NACA or CDFI Program, the CDFI Fund will deem such funds to be Federal funds, unless the funding entity establishes to the reasonable satisfaction of the CDFI Fund that such funds do not consist, in whole or in part, of NACA or CDFI Program funds or other Federal funds. For the purposes of this NOFA, BEA Program awards may not be used as matching funds. The CDFI Fund encourages Applicants to review the Regulations at 12 CFR 1805.500 et seq. and matching funds guidance materials on the CDFI Fund's Web site for further information.

2. Due to funding constraints and the desire to quickly deploy CDFI Fund dollars, the CDFI Fund will not consider for a FA award any Applicant that has no matching funds in-hand or firmly committed as of the application deadline of this NOFA. An Applicant for a FA award must demonstrate that it has eligible matching funds equal to no less than 25 percent of the amount of the FA award requested in-hand or firmly committed, on or after January 1, 2009, and on or before the application deadline. The CDFI Fund reserves the right to rescind all or a portion of a FA award and re-allocate the rescinded award amount to other qualified Applicant(s), if an Applicant fails to obtain in-hand 100 percent of the required matching funds by March 14, 2012 (with required documentation of such receipt received by the CDFI Fund not later than March 31, 2012), or to grant an extension of such matching funds deadline for specific Applicants selected to receive FA awards, if the CDFI Fund deems it appropriate. For any Applicant that demonstrates that it has less than 100 percent of matching funds in-hand or firmly committed as of the application deadline, the CDFI Fund will evaluate the Applicant's ability to raise the remaining matching funds by March 14, 2012.

3. Matching Funds Terms Defined; Required Documentation. (a) “Matching funds in-hand” means the Applicant has actually received the matching funds. If the matching funds are “in-hand,” the Applicant must provide the CDFI Fund with acceptable written documentation of the source, form, and amount of the matching funds (i.e., grant, loan, deposit, and equity investment). For a loan, the Applicant must provide the CDFI Fund with a copy of the loan agreement and promissory note. For a grant, the Applicant must provide the CDFI Fund with a copy of the grant letter or agreement for all grants of $50,000 or more. For an equity investment, the Applicant must provide the CDFI Fund with a copy of the stock certificate and any related shareholder agreement. Further, if the matching funds are “in-hand”, the Applicant must provide the CDFI Fund with acceptable documentation that evidences its receipt of the matching funds proceeds, such as a copy of a check or a wire transfer statement.

(b) “Firmly committed matching funds” means the Applicant has entered into or received a legally binding commitment from the matching funds source that the matching funds will be disbursed to the Applicant. If the matching funds are “firmly committed,” the Applicant must provide the CDFI Fund with acceptable written documentation to evidence the source, form, and amount of the firm commitment (and, in the case of a loan, the terms thereof), as well as the anticipated date of disbursement of the committed funds.

4. The CDFI Fund may contact the matching funds source to discuss the matching funds and the documentation provided by the Applicant. If the CDFI Fund determines that any portion of the Applicant's matching funds is ineligible under this NOFA, the CDFI Fund, in its sole discretion, may permit the Applicant to offer alternative matching funds as a substitute for the ineligible matching funds; provided, however, that (i) the Applicant must provide acceptable alternative matching funds documentation within two business days of the CDFI Fund's request and (ii) the alternative matching funds documentation cannot increase the total amount of Financial Assistance requested by the Applicant.

5. Special Rule for Insured Credit Unions: The Regulations allow an Insured Credit Union to use retained earnings to serve as matching funds for a FA grant in an amount equal to: (i) The increase in retained earnings that has occurred over the Applicant's most recent fiscal year; (ii) the annual average of such increases that has occurred over the Applicant's three most recent fiscal years; or (iii) the entire retained earnings that have been accumulated since the inception of the Applicant, as provided in the Regulations. For purposes of this NOFA, if option (iii) is used, the Applicant must increase its member and/or non-member shares or total loans outstanding by an amount that is equal to the amount of retained earnings that is committed as matching funds.

This amount must be raised by the end of the Awardee's second performance period, as set forth in its Assistance Agreement, and will be based on amounts reported in the Applicant's Audited or Reviewed Financial Statements or NCUA Form 5300 Call Report. The CDFI Fund will assess the likelihood of this increase during the application review process. An award will not be made to any Applicant that has not demonstrated that it has increased shares or loans by at least 25 percent of the requested FA award amount between December 31, 2009 and December 31, 2010, as demonstrated by the corresponding NCUA report.

IV. Application and Submission Information

A. MyCDFIFund Accounts: All Applicants must register user and organization accounts in myCDFIFund, the CDFI Fund's Internet-based interface. An Applicant must be registered as both a user and an organization in myCDFIFund as of the applicable application deadline in order to be considered to have submitted a complete application. As myCDFIFund is the CDFI Fund's primary means of communication with Applicants and Awardees, organizations must make sure that they update the contact information in their myCDFIFund accounts before the applicable application deadline. For more information on myCDFIFund, please see the “Frequently Asked Questions” link posted at https://www.cdfifund.gov/myCDFI/Help/Help.asp.

B. Form of Application Submission: Applicants must submit applications under this NOFA electronically. Applications sent by email, mail, facsimile, or other forms will not be accepted except in circumstances the CDFI Fund approves beforehand.

C. Applications Submitted via Grants.gov: For the FY 2011 Funding Round, in compliance with Public Law 106-107 and Section 5(a) of the Federal Financial Assistance Management Improvement Act of 1999, the CDFI Fund is accepting applications submitted through the Grants.gov electronic system. Applicants are encouraged to start the registration process upon review of the NOFA at http://www.Grants.gov. The process may take several weeks to fully complete. See the following link for information on getting started on Grants.gov: http://grants.gov/assets/GrantsgovCoBrandBrochure8X11.pdf. Please note that the CDFI Fund will not accept applications through myCDFIFund.

D. Application Content Requirements: Detailed application content requirements, including the required elements of the Comprehensive Business Plan, are found in the application and guidance. Each Applicant must provide, as part of its application submission, a Dun and Bradstreet Data Universal Numbering System (DUNS) number pursuant to OMB guidance (68 FR 38402). In addition, each application must include a valid and current Employer Identification Number (EIN). An electronic application that does not include an EIN is incomplete and cannot be transmitted to the CDFI Fund through Grants.gov. Applicants should allow sufficient time for the Internal Revenue Service (IRS) and/or Dun and Bradstreet to respond to inquiries and/or requests for identification numbers. Once an application is submitted, the Applicant will not be allowed to change any element of the application. The preceding sentences do not limit the CDFI Fund's ability to contact an Applicant for the purpose of obtaining clarifying or confirming application information.

E. Under the Paperwork Reduction Act (44 U.S.C. chapter 35), an agency may not conduct or sponsor a collection of information, and an individual is not required to respond to a collection of information, unless it displays a valid OMB control number. Pursuant to the Paperwork Reduction Act, the application has been assigned the following control number: 1559-0025.

F. Application Deadlines: 1. The following are the deadlines for submission of the NACA Program Funding Application, the CDFI Certification Application, and the Certification of Material Events form:

Table 2—FY 2011 NACA Program Deadlines
[All eastern time deadlines]
Document | Must be received by: | Deadlines for contacting CDFI Fund staff
CDFI Certification Application | Thursday, December 2, 2010 by 5 p.m | Wednesday, December 1, 2010 by 5 p.m.
Certification of Material Events Form | Thursday, December 2, 2010 by 5 p.m | Wednesday, December 1, 2010 by 5 p.m.
NACA Program Funding Application | Wednesday, December 22, 2010 by 11:59 p.m | Monday, December 20, 2010 by 11:59 p.m.

2. Late Delivery: The CDFI Fund will neither accept a late application nor any portion of an application that is late; an application that is late, or for which any portion is late, will be rejected. The CDFI Fund will not grant exceptions or waivers. Any application that is deemed ineligible will not be returned to the Applicant.

G. Intergovernmental Review: Not applicable.

H. Funding Restrictions: For allowable uses of FA proceeds, please see the Regulations at 12 CFR 1805.301.

V. Application Review Information

A. Format: Funding applications must be single-spaced and use a 12-point font with 1-inch margins. Each section in the application that is scored has page limitations. Applicants are encouraged to read each section carefully and to remain within the page limitations for each section. The CDFI Fund will not consider responses beyond the specified page limitation in each section. Also, the CDFI Fund will read only information requested in the application and will not read attachments that have not been specifically requested in this NOFA or the application, such as the Applicant's five-year strategic or marketing plans.

B. Criteria: The CDFI Fund will evaluate each application on a 100-point scale using numeric scores with respect to the five sections required in the application. The CDFI Fund will score each section as indicated in the following table:

Table 3—Application Scoring Criteria
Application sections | Scoring points
Market Analysis | 25
Business Strategy | 25
Community Development Performance & Effective Use | 20
Management | 20
Financial Health & Viability | 10

C. Technical Assistance Proposal: Any Applicant applying for a TA grant, either alone or in conjunction with a request for a FA award, must complete a Technical Assistance Proposal (TAP) as part of its application. The TAP consists of a summary of the organizational improvements needed to achieve the objectives of the Comprehensive Business Plan, a budget, and a description of the requested goods and/or services comprising the TA award request. The budget and accompanying narrative will be evaluated for the eligibility and appropriateness of the proposed uses of the TA grant (described above). In addition, if the Applicant identifies a capacity-building need related to any of the evaluation criteria above (for example, if the Applicant requires a market need analysis or a community development impact tracking/reporting system), the CDFI Fund will assess its plan to use the TA grant to address said needs.

1. Non-Certified Applicants: An Applicant that is not a Certified Native CDFI and that requests TA to address certification requirements must explain how the requested TA grant will assist the Applicant in meeting the certification requirements. The CDFI Fund will assess the reasonableness of the plan to become certified (as specified above in Section III, Eligibility Information; A.3. Native CDFI Certification Requirements), taking into account the requested TA. For example, if the Applicant does not currently make loans and therefore does not meet the Financing Entity requirement, it might describe how the TA funds will be used to hire a consultant to develop underwriting policies and procedures to support the Applicant's ability to start its lending activity.

2. Recurring Activities: An Applicant that requests a TA grant for recurring activities must clearly describe the benefit that would accrue to its capacity or to its Target Market(s) (such as plans for expansion of staff, market, products or annual conference attendance) as a result of the TA grant. If the Applicant is a prior CDFI Fund Awardee, it must describe how it has used the prior assistance and explain the need for additional CDFI Fund dollars over and above such prior assistance.

D. Review and Selection Process: 1. Eligibility and Completeness Review: The CDFI Fund will review each application to determine whether it is complete and the Applicant meets the eligibility requirements set forth above. An incomplete application does not meet eligibility requirements and will be rejected. Any application that does not meet eligibility requirements will not be returned to the Applicant.

2. Substantive Review: If an application is determined to be complete and the Applicant is determined to be eligible, the CDFI Fund will conduct the substantive review of the application in accordance with the criteria and procedures described in the Regulations, this NOFA, and the application and guidance. As part of the review process, the CDFI Fund may contact the Applicant by telephone, e-mail, mail, or through an on-site visit for the sole purpose of obtaining clarifying or confirming application information (such as statements of work, matching funds documentation, or DUNS numbers for example). After submitting its application, the Applicant will not be permitted to revise or modify its application in any way nor attempt to negotiate the terms of an award. If contacted for clarifying or confirming information, the Applicant must respond within the time parameters set by the CDFI Fund.

3. Application Scoring; Ranking: (a) Application Scoring: The CDFI Fund will evaluate each application on a 100-point scale, comprising the five criteria categories described above, and assign numeric scores. An Applicant must receive a minimum score in each evaluation criteria in order to be considered for an award.

(b) Evaluating Prior Award Performance: In the case of an Applicant that has previously received funding through any CDFI Fund program, the CDFI Fund will consider and will deduct points for: (i) The Applicant's noncompliance with any active award or award that terminated in the current calendar year in meeting its performance goals and measures, reporting deadlines, and other requirements set forth in the assistance or award agreement(s) with the CDFI Fund during the Applicant's two complete fiscal years prior to the application deadline of this NOFA; (ii) the Applicant's failure to make timely loan payments to the CDFI Fund during the Applicant's two complete fiscal years prior to the application deadline of this NOFA (if applicable); (iii) performance on any prior Assistance Agreement as part of the overall assessment of the Applicant's ability to carry out its Comprehensive Business Plan; and (iv) funds deobligated from a FY 2008, 2009, or 2010 FA award (if the Applicant is applying for a FA award under this NOFA) if (A) the amount of deobligated funds is at least $200,000 and (B) the deobligation occurred within the 12 months prior to the application deadline under this NOFA. Any award deobligations that result in a point deduction for an application submitted under this NOFA will not be counted against future applications for FA through the NACA Program. In the case of an Applicant that has previously received funding through any CDFI Fund program, the CDFI Fund will consider and may, in its discretion, deduct points for those Applicants that have in any proceeding instituted against the Applicant in, by, or before any court, governmental, or administrative body or agency received a final determination within the last three years indicating that the Applicant has discriminated on the basis of race, color, national origin, disability, age, marital status, receipt of income from public assistance, religion, or sex.

(c) Ranking: The CDFI Fund then will rank the applications by their scores, from highest to lowest.

4. Award Selection: The CDFI Fund will make its final award selections based on the rank order of Applicants by their scores and the amount of funds available. In the case of a tied score(s), Applicants will be ranked according to each Applicant's combined scores in the Market Analysis, Business Strategy, and Community Development Performance & Effective Use sections; then the score on the Financial Health and Viability section; then the score on the Management section. In addition, the CDFI Fund shall consider the institutional and geographic diversity of Applicants when making its funding decisions.

5. Insured Native CDFIs: In the case of Insured Depository Institutions and Insured Credit Unions, the CDFI Fund will consider the views of the Appropriate Federal Banking Agencies. Throughout the award review process, the CDFI Fund will consult with the Appropriate Federal Banking Agency about the Applicant's financial safety and soundness. If the Appropriate Federal Banking Agency identifies safety and soundness concerns, the CDFI Fund will assess whether the concerns cause or will cause the Applicant to be incapable of undertaking the activities for which funding has been requested. If it is determined the Applicant is incapable of meeting its obligations, the CDFI Fund reserves the right to deselect the Applicant from receiving an award. The CDFI Fund also reserves the right to require insured NACA Applicants to improve safety and soundness conditions prior to receiving an award disbursement. In addition, the CDFI Fund will take into consideration Community Reinvestment Act assessments of Insured Depository Institutions and/or their Affiliates.

6. Award Notification: Each Applicant will be informed of the CDFI Fund's award decision either through notification in the Applicant's myCDFIFund account, via e-mail to the Applicant's Authorized Official Representative. This includes notification to Applicants who are not receiving an award if the decision is based on reasons other than completeness and eligibility. The CDFI Fund will provide feedback in a format and within a timeframe depending on available resources.

7. The CDFI Fund reserves the right to reject an application if information (including administrative errors) comes to the attention of the CDFI Fund that either adversely affects an Applicant's eligibility for an award, adversely affects the CDFI Fund's evaluation or scoring of an application, or indicates fraud or mismanagement on the part of an Applicant. If the CDFI Fund determines that any portion of the application is incorrect in any material respect, the CDFI Fund reserves the right, in its sole discretion, to reject the application. The CDFI Fund reserves the right to change its eligibility and evaluation criteria and procedures, if the CDFI Fund deems it appropriate; if said changes materially affect the CDFI Fund's award decisions, the CDFI Fund will provide information regarding the changes through the CDFI Fund's Web site. There is no right to appeal the CDFI Fund's award decisions. The CDFI Fund's award decisions are final.

VI. Award Administration Information

A. Assistance Agreement: Each Applicant that is selected to receive an award under this NOFA must enter into an Assistance Agreement with the CDFI Fund in order to receive disbursement of award proceeds. The Assistance Agreement will set forth certain required terms and conditions of the award, which will include, but not be limited to: (i) The amount of the award; (ii) the type of award; (iii) the approved uses of the award; (iv) the approved eligible market to which the funded activity must be targeted; (v) performance goals and measures; and (vi) reporting requirements for all Awardees. Applicants should review the OMB Guidance: Requirements for Federal Funding Accountability and Transparency Act Implementation (2 CFR part 170) to ensure that they have processes and systems in place to comply with the reporting obligations. FA and FA/TA Assistance Agreements under this NOFA generally will have three-year performance periods; TA-only Assistance Agreements generally will have two-year performance periods. If prior to entering into an Assistance Agreement with the CDFI Fund, information (including administrative error) comes to the attention of the CDFI Fund that either adversely affects the Awardee's eligibility for an award, or adversely affects the CDFI Fund's evaluation of the Awardee's application, or indicates fraud or mismanagement on the part of the Awardee, the CDFI Fund may, in its discretion and without advance notice to the Awardee, terminate the award or take such other actions as it deems appropriate. Moreover, if prior to entering into an Assistance Agreement with the CDFI Fund, the CDFI Fund determines that the Awardee or an Affiliate of the Awardee is in default of any Assistance Agreement previously entered into with the CDFI Fund, the CDFI Fund may, in its discretion and without advance notice to the Awardee, either terminate the award or take such other actions as it deems appropriate. For purposes of this section, the CDFI Fund will consider an Affiliate to mean any entity that meets the definition of Affiliate in the Regulations. The CDFI Fund reserves the right, in its sole discretion, to rescind an award if the Awardee fails to return the Assistance Agreement, signed by the Authorized Representative of the Awardee, and/or provide the CDFI Fund with any other requested documentation, within the deadlines set by the CDFI Fund. Each Awardee must provide the CDFI Fund with a good standing certificate (or equivalent documentation) from its State (or jurisdiction) of incorporation.

1. Failure to Meet Reporting Requirements: If an Awardee or an Affiliate of the Awardee is a prior Awardee or Allocatee under any CDFI Fund program and is not current on the reporting requirements set forth in the previously executed assistance, allocation, or award agreement(s), as of the date of the Assistance Agreement, the CDFI Fund reserves the right, in its sole discretion, to delay entering into an Assistance Agreement until said prior Awardee or Allocatee is current on the reporting requirements in any previously executed assistance, allocation, or award agreement(s). Please note that the CDFI Fund only acknowledges the receipt of reports that are complete. As such, incomplete reports or reports that are deficient of required elements will not be recognized as having been received. If said prior Awardee or Allocatee is unable to meet this requirement within the timeframe set by the CDFI Fund, the CDFI Fund reserves the right, in its sole discretion, to terminate and rescind the Assistance Agreement and the award made under this NOFA.

2. Pending Resolution of Noncompliance: If an Applicant is a prior Awardee or Allocatee under any CDFI Fund program and if: (i) It has submitted complete and timely reports to the CDFI Fund that demonstrate noncompliance with a previous assistance, award, or allocation agreement; and (ii) the CDFI Fund has yet to make a final determination as to whether the entity is in default of its previous assistance, award, or allocation agreement, the CDFI Fund reserves the right, in its sole discretion, to delay entering into an Assistance Agreement, pending full resolution, in the sole determination of the CDFI Fund, of the noncompliance. Further, if an Affiliate of the Awardee is a prior CDFI Fund Awardee or Allocatee and if such entity (i) has submitted complete and timely reports to the CDFI Fund that demonstrate noncompliance with a previous assistance, award, or allocation agreement, and (ii) the CDFI Fund has yet to make a final determination as to whether the entity is in default of its previous assistance, award, or allocation agreement, the CDFI Fund reserves the right, in its sole discretion, to delay entering into an Assistance Agreement, pending full resolution, in the sole determination of the CDFI Fund, of the noncompliance. If the prior Awardee or Allocatee in question is unable to satisfactorily resolve the issues of noncompliance, in the sole determination of the CDFI Fund, the CDFI Fund reserves the right, in its sole discretion, to terminate and rescind the Assistance Agreement and the award made under this NOFA.

3. Default Status: If, at any time prior to entering into an Assistance Agreement through this NOFA, the CDFI Fund has made a final determination that an Awardee that is a prior Awardee or Allocatee under any CDFI Fund program is in default of a previously executed assistance, allocation, or award agreement(s), the CDFI Fund reserves the right, in its sole discretion, to delay entering into an Assistance Agreement, until said prior Awardee or Allocatee has submitted a complete and timely report demonstrating full compliance with said agreement within a timeframe set by the CDFI Fund. Further, if at any time prior to entering into an Assistance Agreement through this NOFA, the CDFI Fund has made a final determination that an Affiliate of the Awardee is a prior Awardee or Allocatee under any CDFI Fund program and is in default of a previously executed assistance, allocation, or award agreement(s), the CDFI Fund reserves the right, in its sole discretion, to delay entering into an Assistance Agreement, until said prior Awardee or Allocatee has submitted a complete and timely report demonstrating full compliance with said agreement within a timeframe set by the CDFI Fund. If said prior Awardee or Allocatee is unable to meet this requirement and the CDFI Fund has not specified in writing that the prior Awardee or Allocatee is otherwise eligible to receive an Award under this NOFA, the CDFI Fund reserves the right, in its sole discretion, to terminate and rescind the Assistance Agreement and the award made under this NOFA.

4. Termination in Default: If (i) within the 12-month period prior to entering into an Assistance Agreement through this NOFA, the CDFI Fund has made a final determination that an Awardee is a prior Awardee or Allocatee under any CDFI Fund program whose award or allocation was terminated in default of such prior agreement, and (ii) the final reporting period end date for the applicable terminated agreement falls within the 12-month period prior to the application deadline of this NOFA, the CDFI Fund reserves the right, in its sole discretion, to delay entering into or determine not to enter into an Assistance Agreement. Further, if (i) within the 12-month period prior to entering into an Assistance Agreement through this NOFA, the CDFI Fund has made a final determination that an Affiliate of the Awardee is a prior Awardee or Allocatee under any CDFI Fund program whose award or allocation was terminated in default of such prior agreement, and (ii) the final reporting period end date for the applicable terminated agreement falls within the 12-month period prior to the application deadline of this NOFA, the CDFI Fund reserves the right, in its sole discretion, to delay entering into or determine not to enter into an Assistance Agreement.

5. Compliance with Federal Anti-Discrimination Laws: If the Awardee has previously received funding through any CDFI Fund program, and if at any time prior to entering into an Assistance Agreement through this NOFA, the CDFI Fund is made aware of a final determination, made within the last three years, in any proceeding instituted against the Awardee in, by, or before any court, governmental, or administrative body or agency, declaring that the Awardee has discriminated on the basis of race, color, national origin, disability, age, marital status, receipt of income from public assistance, religion, or sex, the CDFI Fund reserves the right, in its sole discretion, to terminate and rescind the award made under this NOFA.

B. Reporting: 1. Reporting Requirements: The CDFI Fund will collect information, on at least an annual basis, from each Awardee including, but not limited to, an Annual Report that comprises the following components: (i) Financial Reports (including an OMB A-133 audit, as applicable; however Financial Reports are not required of Sponsoring Entities); (ii) Institution Level Report; (iii) Transaction Level Report (for Awardees receiving FA awards); (iv) Financial Status Report form SF-269/SF-425 (for Awardees receiving TA grants); (v) Uses of Financial Assistance (for Awardees receiving FA awards); (vi) Explanation of Noncompliance (as applicable); and (vii) such other information as the CDFI Fund may require. Each Awardee is responsible for the timely and complete submission of the Annual Report, even if all or a portion of the documents actually is completed by another entity or signatory to the Assistance Agreement. If such other entities or signatories are required to provide Institution Level Reports, Transaction Level Reports, Financial Reports, or other documentation that the CDFI Fund may require, the Awardee is responsible for ensuring that the information is submitted timely and complete. The CDFI Fund reserves the right to contact such additional entities or signatories to the Assistance Agreement and require that additional information and documentation be provided. The CDFI Fund will use such information to monitor each Awardee's compliance with the requirements set forth in the Assistance Agreement and to assess the impact of the NACA Program. The Institution Level Report and the Transaction Level Report must be submitted through the CDFI Fund's Web-based data collection system, the Community Investment Impact System (CIIS). The Financial Reports may be submitted through CIIS. All other components of the Annual Report may be submitted electronically, as directed, by the CDFI Fund. The CDFI Fund reserves the right, in its sole discretion, to modify these reporting requirements if it determines it to be appropriate and necessary; however, such reporting requirements will be modified only after notice to Awardees. Furthermore, in order to ensure compliance with reporting requirements, all Awardees will be required to participate in a post-award training session on the CDFI Fund's reporting requirements. Awardees who fail to participate in such training run the risk of having the award rescinded or future applications penalized by point deductions.

2. Accounting: The CDFI Fund will require each Awardee that receives FA and TA awards through this NOFA to account for and track the use of said FA and TA awards. This means that for every dollar of FA and TA awards received from the CDFI Fund, the Awardee will be required to inform the CDFI Fund of its uses. This will require Awardees to establish separate administrative and accounting controls, subject to the applicable OMB Circulars. The CDFI Fund will provide guidance to Awardees outlining the format and content of the information to be provided on an annual basis, outlining and describing how the funds were used. Each Awardee that receives an award must provide the CDFI Fund with the required complete and accurate Automated Clearinghouse (ACH) form for its bank account prior to award closing and disbursement.

VII. Agency Contacts

A. The CDFI Fund will respond to questions and provide support concerning this NOFA and the funding application between the hours of 9 a.m. and 5 p.m. ET, starting the date of the publication of this NOFA through three business days prior to the application deadline. The CDFI Fund will not respond to questions or provide support concerning the applications that are received after 5 p.m. ET on said dates, until after the funding application deadline. Applications and other information regarding the CDFI Fund and its programs may be obtained from the CDFI Fund's Web site at http://www.cdfifund.gov. The CDFI Fund will post responses on its Web site to questions of general applicability regarding the NACA Program.

B. The CDFI Fund's contact information is as follows:

Table 4—Contact Information
Type of question | Telephone number (not toll free) * | E-mail addresses
NACA Program | 202-622-6355 | cdfihelp@cdfi.treas.gov.
Certification, Compliance Monitoring and Evaluation | 202-622-6330 | cme@cdfi.treas.gov.
Information Technology Support | 202-622-2455 | ithelpdesk@cdfi.treas.gov.
* Fax number for all offices: 202-622-7754.

C. Information Technology Support: People who have visual or mobility impairments that prevent them from creating a Target Market map using the CDFI Fund's Web site should call (202) 622-2455 for assistance (this is not a toll free number).

D. Communication with the CDFI Fund: The CDFI Fund will use the myCDFIFund Internet interface to communicate with Applicants and Awardees, using the contact information maintained in their respective myCDFIFund accounts. Therefore, the Applicant and any Subsidiaries, signatories, and Affiliates must maintain accurate contact information (including contact person and authorized representative, e-mail addresses, fax numbers, phone numbers, and office addresses) in its myCDFIFund account(s). For more information about myCDFIFund (which includes information about the CDFI Fund's Community Investment Impact System), please see the Help documents posted at http://www.cdfifund.gov/ciis/accessingciis.pdf.

VIII. Information Sessions and Outreach

The CDFI Fund may conduct webinars or host information sessions for organizations interested in applying to, or learning about, the CDFI Fund's programs. For further information, please visit the CDFI Fund's Web site at http://www.cdfifund.gov.

Authority: 12 U.S.C. 4703, 4704, 4706, 4707, 4717; 12 CFR part 1805.

Dated: October 29, 2010.
Donna J. Gambrell,
Director, Community Development Financial Institutions Fund.

[FR Doc. 2010-27802 Filed 11-3-10; 8:45 am]

BILLING CODE 4810-70-P